DEPARTMENT OF ENERGY

Federal Energy Regulatory Commission

Notice of Jurisdictional Review and Soliciting Comments, Protests and/or Motions To Intervene

Take notice that the following review has been initiated by the Commission:

a. Review Type: Jurisdictional Review.

b. Project No.: 2306-080.

c. Owner: Great Bay Hydro Corporation.

d. Name of Project: Clyde River Hydroelectric Project.

e. Location: The project is located on the Clyde River in Orleans County, Vermont.

f. Owner Contact: Mr. William Rodgers, Great Bay Hydro Corporation, 1 New Hampshire Avenue, Suite 125, Portsmouth, NH 03801. (603) 766-4990.

g. FERC Contact: Any questions on this notice should be addressed to Chris Yeakel at (202) 502-8132, or e-mail address: christopher.yeakel@ferc.gov.

h. Deadline for filing comments, protests, and/or motions to intervene: March 20, 2007.

All documents (original and eight copies) should be filed with: Magalie R. Salas, Secretary, Federal Energy Regulatory Commission, 888 First Street, NE., Washington, DC 20426. Comments, protests, and/or interventions may be filed electronically via the Internet in lieu of paper. Any questions, please contact the Secretary's Office. See 18 CFR 385.2001(a)(1)(iii) and the instructions on the Commission's Web site at http://www.ferc.gov.

Please include the docket number (Project No. 2306-080) on any comments, protests, and/or motions to intervene filed.

i. Description: Great Bay Hydro Corporation filed an application on January 5, 2006, proposing to amend the license to, among other things, remove from the license and project boundary, the Seymour and Echo reservoirs and convey them to the state of Vermont, because they are not needed for project purposes. Staff will review the jurisdictional status of the two reservoirs to determine whether they are needed for project purposes.

j. Individuals desiring to be included on the Commission's mailing list should so indicate by writing to the Secretary of the Commission.

k. Protests, Comments, and/or Motions To Intervene—Anyone may submit comments, a protest, or a motion to intervene in accordance with the requirements of Rules of Practice and Procedure, 18 CFR 385.210, .211, .214. In determining the appropriate action to take, the Commission will consider all protests, but only those who file a motion to intervene in accordance with the Commission's Rules may become a party to the proceeding. Any comments, protests and/or motions to intervene must be received on or before the specified comment date for the particular application.

l. Filing and Service of Responsive Documents—Any filings must bear in all capital letters the title “COMMENTS”, “PROTESTS”, and/or “MOTIONS TO INTERVENE”, as applicable, and the Docket Numbers of the particular review.

m. Agency Comments—Federal, state, and local agencies are invited to file comments on the described review. If an agency does not file comments within the time specified for filing comments, it will be presumed to have no comments.

Magalie R. Salas,
Secretary.

[FR Doc. E7-3224 Filed 2-23-07; 8:45 am]

BILLING CODE 6717-01-P